DEPARTMENT OF COMMERCE

National Oceanic and Atmospheric Administration

[RTID 0648-XA841]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-day meeting via webinar of its Reef Fish Advisory Panel (AP).

DATES: The meeting will be held on Wednesday, February 24, 2021, 9 a.m.-5:30 p.m., EST.

ADDRESSES: The meeting will take place via webinar; you may register by visiting www.gulfcouncil.org and clicking on the AP meeting on the calendar.

Council address: Gulf of Mexico Fishery Management Council, 4107 W Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Wednesday, February 24, 2021; 9 a.m.-5:30 p.m., EDT

The meeting will begin with Introductions, Adoption of Agenda, Approval of Minutes from the October 16, 2020 webinar meeting, and review Scope of Work.

The Advisory Panel (AP) will review presentation and projections, SSC Recommendations for Overfishing Limits (OFL) and Acceptable Biological Catch (ABC) limits for SEDAR 64: Southeastern U.S. Yellowtail Snapper Stock Assessment; and, presentations on Draft Management Alternatives and Something's Fishy for Yellowtail Snapper. The AP will also discuss recommendations, review the Stock Assessment Executive Summary and the Yellowtail Snapper One-page Info Sheet.

The AP will receive a presentation, discuss AP Recommendations and the Framework Action examining Gray Triggerfish Recreational Fixed Closed Seasons. The AP will review presentation and projections, SSC Recommendations for OFL and ABC, a Presentation of Draft Management Alternatives and Something's Fishy for SEDAR 70: Gulf of Mexico Greater Amberjack Stock Assessment. The AP will also discuss AP Recommendations, review the Stock Assessment Executive Summary and the Greater Amberjack One-page Info Sheet.

Lunch—12 p.m.-1 p.m.

The AP will review a presentation, document and AP Recommendations for Draft Reef Fish Amendment 53: Red Grouper Allocations and Annual Catch Levels and Targets. The AP will then receive a presentation on Commercial Electronic Logbooks, and review Southeast Fisheries Science Center's (SEFSC) June 2020 and October 2020 Council Presentations, and AP Recommendations.

The AP will review a presentation on modifications to Vermilion Snapper Recreational Bag Limits, review the Framework Action, and discuss AP Recommendations.

Lastly, the Advisory Panel will discuss Other Business items and receive public comment.

—Meeting Adjourns

The meeting will be broadcast via webinar. You may register for the webinar by visiting www.gulfcouncil.org and clicking on the AP meeting on the calendar.

The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

(Authority: 16 U.S.C. 1801 et seq.)

Dated: January 27, 2021.
Rey Israel Marquez,
Acting Deputy Director, Office of Sustainable Fisheries, National Marine Fisheries Service.

[FR Doc. 2021-02114 Filed 2-1-21; 8:45 am]

BILLING CODE 3510-22-P